SECURITIES AND EXCHANGE COMMISSION

17 CFR Part 240

[Release No. 34-64766; File No. S7-25-11]

RIN 3235-AL10

Business Conduct Standards for Security-Based Swap Dealers and Major Security-Based Swap Participants

Correction

In proposed rule document number 2011-16758, appearing on pages 42396-42455 in the issue of Monday, July 18, 2011, make the following corrections:

PART 240 § 240.15Fh-3 [Corrected]

1. On page 42455, in the third column, § 240.15Fh-3 (f)(2), paragraph two “(g)(1)” should read “(f)(1)”.

2. On the same page, in the same column, § 240.15Fh-3, paragraph nine “(h)” should read “(g)”.

3. On the same page, in the same column, third from the bottom of the page, “(i)” should read “(h)”.

[FR Doc. C1-2011-16758 Filed 8-3-11; 8:45 am]

BILLING CODE 1505-01-D